DEPARTMENT OF EDUCATION

Applications for New Awards; Promoting the Readiness of Minors in Supplemental Security Income (PROMISE)

AGENCY: Office of Special Education and Rehabilitative Services, Department of Education.

ACTION: Notice.

Overview Information

Promoting the Readiness of Minors in Supplemental Security Income (PROMISE)

Notice inviting applications for new awards for fiscal year (FY) 2013.

Catalog of Federal Domestic Assistance (CFDA) Number: 84.418P.

DATES:

Applications Available: May 21, 2013.

Deadline for Notice of Intent to Apply: June 20, 2013.

Dates of Pre-Application Webinars: May 30, 2013 and June 4, 2013.

Date of Pre-Application Teleconference: June 27, 2013. For further information about the pre-application webinars and teleconference, see the PROMISE Web site at www.ed.gov/promise.

Deadline for Transmittal of Applications: August 19, 2013.

Full Text of Announcement

I. Funding Opportunity Description

Purpose of Program: Promoting the Readiness of Minors in Supplemental Security Income (PROMISE) is a joint initiative of the U.S. Department of Education (ED), the U.S. Social Security Administration (SSA), the U.S. Department of Health and Human Services (DHHS), and the U.S. Department of Labor (DOL). Under PROMISE, ED will fund States to develop and implement model demonstration projects (MDPs) that promote positive outcomes for children who receive Supplemental Security Income (SSI) and their families. Specifically, PROMISE is intended to improve the provision and coordination of services and supports for child SSI recipients and their families to enable them to achieve improved outcomes. These outcomes include graduating from high school ready for college and a career, completing postsecondary education and job training, and obtaining competitive employment in an integrated setting and, as a result, achieving long-term reductions in the child recipients' reliance on SSI.

Priority: We are establishing this priority for the FY 2013 grant competition and any subsequent year in which we make awards from the list of unfunded applicants from this competition, in accordance with section 437(d)(1) of the General Education Provisions Act (GEPA), 20 U.S.C. 1232(d)(1).

Absolute Priority: This priority is an absolute priority. Under 34 CFR 75.105(c)(3) we consider only applications that meet this priority. Applications submitted under this absolute priority may be from a single State or a multi-State consortium.¹

¹ Applicants are invited to form consortia consistent with the Education Department General Administrative Regulations in 34 CFR 75.127 through 75.129. A consortium is any combination of eligible entities. See the Eligibility Information section of this notice for further requirements for consortia.

This priority is:

Promoting the Readiness of Minors in Supplemental Security Income (PROMISE)

Background

The Supplemental Security Income (SSI) program for children provides cash payments to low-income families that have a child with a severe disability under SSA disability eligibility criteria. This means-tested cash payment is a vital source of income for families of children under the age of 18. To qualify for SSI, children and their families must meet income, asset, and disability eligibility criteria. To meet the SSI disability eligibility criteria, a child must have a medically determinable physical or mental impairment that results in marked and severe functional limitations, and that can be expected to result in death or that has lasted, or can be expected to last, for a continuous period of not less than 12 months (42 U.S.C. 1382(c)). In 2011, SSA paid roughly $9.4 billion to 1.3 million children, an average monthly payment of $592 per child. In 2013, the maximum monthly SSI payment is $710 per child (www.ssa.gov/oact/cola/SSI.html ).

Under the Personal Responsibility and Work Opportunity Reconciliation Act of 1996, when they reach the age of 18, child SSI recipients must have their eligibility for SSI redetermined using more stringent adult eligibility criteria. Using the adult program rules, eligibility is based on the inability to perform substantial gainful activity (Hemmeter & Gilby, 2009).

Approximately 60 percent of child SSI recipients receive SSI as adults (Hemmeter, Kauff, & Wittenburg, 2009). Of those who leave the program at age 18, either because they did not meet the adult SSI disability criteria or for other reasons, about one-fourth of the SSI recipients return to the program within four years (Hemmeter & Gilby, 2009). The probability of remaining on SSI varies substantially among individuals and especially by the type and significance of impairment (Hemmeter, Kauff, & Wittenburg, 2009).

Child SSI recipients who become adult SSI recipients continue to face many challenges. Rangarajan et al. (2009) report the following data (from 2000) for young adults, ages 19 to 23, receiving SSI payments:

• Low educational attainment rates: 39 percent did not have a high school diploma and were not currently attending school.

• Low employment rates: 22 percent were employed compared with 69 percent for all adults ages 20 to 24.

• Low postsecondary enrollment rates: 6 percent were enrolled in some form of postsecondary education after graduating from high school, compared with 41 percent of all youth ages 18 to 23.

• Low enrollment rates in vocational rehabilitation (VR): Only 13 percent had ever received services from a State VR agency.

• High arrest rates: Approximately one-fifth had been arrested, which is fairly consistent with other reports (e.g., Quinn, Rutherford, Leone, Osher, & Poirier, 2005) indicating that 30 to 50 percent of all incarcerated youth have disabilities that could qualify them for support services, such as special education.

• High rates of disconnection overall: 57 percent were not enrolled in education programs, not receiving VR services, and not employed.

Parents and other family members of child SSI recipients also face many challenges and are in need of support services. According to Davies, Rupp, and Wittenburg (2009), about one-third of the parents of child SSI recipients have less than a high school education, and almost half of child SSI recipients live in a household with at least one other person with a disability. There also is evidence that child SSI recipients and their families lack information about various work incentives available to them to help them pursue activities that would increase self-sufficiency (Fraker & Rangarajan, 2009; Loprest & Wittenburg, 2005).²

² SSI programs include a number of employment support provisions commonly referred to as “work incentives.” Additional information about SSI work incentives is available at www.socialsecurity.gov/redbook/eng/ssi-only-employment-supports.htm#2.

The structure of services to help children with disabilities who are SSI recipients transition from school to postsecondary education and competitive employment may also be a barrier to achieving self-sufficiency and independence. Not all child SSI recipients receive transition support services as adults because many services, including VR and mental health services, are not entitlements (Hemmeter, Kauff, & Wittenburg, 2009). In addition, there are concerns about gaps (e.g., differing eligibility requirements and goals) in the coordination of transition support services provided by Federal, State, and local governments, as noted in a series of U.S. Government Accountability Office (GAO) reports over the past decade (GAO, 2003, 2008, 2012).

To address these gaps and improve postsecondary education and employment outcomes for children with disabilities, there is a need to strengthen coordination among agencies through the development of interagency partnerships that integrate educational and employment services, supports, and resources. It is also essential to provide coordinated individual and family-centered interventions that use evidence-based transition support services (SSA, 2003). The Individuals with Disabilities Education Act (IDEA) requires that, beginning at age 16, or younger if determined appropriate by the individualized education program (IEP) Team, a child with a disability, including child SSI recipients served under the IDEA, receive transition services, which are a coordinated set of activities to facilitate the child's movement from school to post-school activities.³ Transition services could include services available through the VR State Grants program, SSA's Ticket to Work Program and Work Incentives Program, Medicaid's care coordination services, Job Corps, and other Workforce Investment Act programs.

³ See 20 U.S.C. 1401(34) and 34 CFR 300.43; see also 20 U.S.C. 1414(d)(1)(A)(i)(VIII) and 34 CFR 300.320(b).

Unfortunately, there is no strong evidence of the effectiveness of specific services for youth with disabilities who are transitioning from school to post-school activities. More research is needed to identify effective interventions, although there are some suggestive findings (Cobb et al., in review). For example, the National Survey of SSI Children and Families found that the probability of remaining on SSI was substantially lower for those who were employed prior to age 18 (Hemmeter, Kauff, & Wittenburg, 2009). Other correlational studies suggest that better post-school outcomes for children with disabilities may be linked to the following: (1) Primary and secondary school activities such as inclusion in general education, exposure to career awareness and community activities, and education in skills such as self-awareness, self-advocacy, and independent living; (2) interagency collaboration; and (3) education and supports for the families, including ways to encourage parental participation in IEP Team meetings, financial and career planning courses, and transition plans for moving off of SSI (Test et al., 2009).

To address these concerns about barriers, to encourage new ways of providing supports, and to build an evidence base on the effectiveness of promising interventions, the Consolidated Appropriations Act, 2012 (P.L. 112-74) provided funds for activities aimed at improving the outcomes for child SSI recipients and their families. Specifically, the FY 2012 appropriation for Special Education included $2 million to support activities needed to plan and begin implementing PROMISE. In addition, the FY 2012 Consolidated Appropriations Act allows the Secretary to use amounts that remain available subsequent to the reallotment of funds to States under the VR State Grants program pursuant to section 110(b) of the Rehabilitation Act of 1973, as amended (Rehabilitation Act), for improving the outcomes of child SSI recipients and their families under PROMISE. These funds, which remain available for Federal obligation until September 30, 2013, will be used to support PROMISE grant awards and related activities.

Children receiving payments under the SSI program need a continuum of coordinated services and supports to prepare for the transition to postsecondary education and competitive employment and to continue on a path to economic self-sufficiency. Through the PROMISE program, States will develop and implement MDPs that are designed to improve the educational and employment outcomes of child SSI recipients and their families, and SSA will evaluate these MDPs in order to help build an evidence base of practices that improve these outcomes.

Based on our review of the available research, extensive public input, and consultation with experts, ED believes that effective partnerships among agencies responsible for programs that provide key services to child SSI recipients and their families will increase the likelihood of success of the PROMISE MDPs. Effective partnerships can improve the coordination of services, integrate multiple funding sources and other resources at the State and local levels, and enhance the ability of the State to effectively serve child SSI recipients and their families. We also believe that focusing on the needs of both children and their families will help further the long-term goal of independence and self-sufficiency for child SSI recipients. In particular, we are interested in testing whether initiating interventions with the child and family when the child is 14 to 16 years of age will lead to better outcomes.

For this reason, each PROMISE project must have several core features: (1) Strong and effective partnerships with agencies responsible for programs that play a key role in providing services to child SSI recipients and their families; (2) a plan to provide a set of coordinated services and supports, and implement effective practices, targeted to the needs of child SSI recipients and their families; and (3) the capacity to achieve results, including the capacity to implement the required project design and adhere to data collection protocols that allow for the testing and rigorous evaluation of the project.

The first four months of the project period will be used for planning and finalizing all aspects of the MDP, such as establishing formal partnerships, securing memoranda of understanding (MOUs) with the lead coordinating entity as described in the Eligibility Information section of this notice, and collaborating with the national evaluator⁴ to plan for and initiate participant outreach and recruitment.

⁴ A national evaluator, funded under a contract with SSA, will conduct a rigorous evaluation using randomized controlled trials to determine the effectiveness of the projects at improving the outcomes of participating youth and reducing their dependence on SSI.

ED expects States, in developing their MDPs, to draw on their knowledge and experience in working with children and families with similar characteristics (i.e., those living in poverty and those with family members with disabilities), as well as on the relevant literature, to identify innovative methods of providing services and supports that show potential to improve the economic self-sufficiency of child SSI recipients and their families. In addition, based on the review of literature, input from non-Federal experts, and expertise of the Federal PROMISE partners, we have identified a small subset of services that each project will be required to provide. Furthermore, we have identified examples of other services and supports that we ask States to consider as they develop their MDPs (see Services and Supports under paragraph (b) of the Project Activities section of this notice).

ED and its Federal PROMISE partners intend to use the findings and results of these projects to inform public policy and to build an evidence base for improving postsecondary education and employment outcomes for child SSI recipients and their families.

References

Cobb, R.B., Lipscomb, S., Wolgemuth, J., Schulte, T., Veliquette, A., Alwell, M., Batchelder, K., Bernard, R., Hernandez, P., Holmquist-Johnson, H., Orsi, R., Sample McMeeking, L., Wang, J., and Weinberg, A. (in review). Improving Postsecondary Outcomes for Transition-Age Students with Disabilities: An Evidence Review. Washington, DC: National Center for Education Evaluation and Regional Assistance, Institute of Education Sciences, U.S. Department of Education.

Davies, P.S., Rupp, K., & Wittenburg, D. (2009). A life-cycle perspective on the transition to adulthood among children receiving Supplemental Security Income payments. Journal of Vocational Rehabilitation, 30, 133-151.

Fraker, T., & Rangarajan, A. (2009). The Social Security Administration's youth transition demonstration projects. Journal of Vocational Rehabilitation, 30, 223-240.

Hemmeter, J., & Gilby, E. (2009). The age-18 redetermination and postredetermination participation in SSI. Social Security Bulletin, 69(4).

Hemmeter, J., Kauff, J., & Wittenburg, D. (2009). Changing circumstances: Experiences of child SSI recipients before and after their age-18 redetermination for adult benefits. Journal of Vocational Rehabilitation, 30, 201-221.

Loprest, P., & Wittenburg, D. (2005). Choices, Challenges, and Options: Child SSI Recipients Preparing for the Transition to Adult Life. Retrieved from The Urban Institute Web site: www.urban.org/url.cfm?ID=411168.

Quinn, M.M., Rutherford, R.B., Leone, P.E., Osher, D.M., & Poirier, J.M. (2005). Youth with disabilities in juvenile corrections: A national survey. Exceptional Children, 71, 339-345.

Rangarajan, A., Fraker, T., Honeycutt, T., Mamun, A., Martinez, J., O'Day, B., & Wittenburg, D. (2009). The Social Security Administration's Youth Transition Demonstration Projects: Evaluation Design Report. Available from www.mdrc.org/sites/default/files/full_576.pdf.

Social Security Administration (SSA). (2003). Youth Demonstration Request for Applications. Program: Cooperative Agreements for Youth Transition Process Demonstrations (Program Announcement No. SSA-OPDR-03-01). Washington, DC.

Test, D.W., Mazzotti, V.L., Mustian, A.L., Fowler, C.H., Kortering, L.J., & Kohler, P.H. (2009). Evidence-based secondary transition predictors for improving post-school outcomes for students with disabilities. Career Development for Exceptional Individuals, 32, 160-181.

U.S. Government Accountability Office. (2003, July). Special education: Federal actions can assist States in improving postsecondary outcomes for youth (GAO-03-773). Washington, DC: Government Printing Office.

U.S. Government Accountability Office. (2008, May). Federal disability programs: More strategic coordination could help overcome challenges to needed transformation (GAO-08-635). Washington, DC: Government Printing Office.

U.S. Government Accountability Office. (2012, June). Supplemental Security Income: Better management oversight needed for children's benefits (GAO-12-497). Washington, DC: Government Printing Office.

Priority

The purpose of this priority is to fund three to six cooperative agreements for five years, to establish and operate State MDPs designed to improve the education and employment outcomes of child SSI recipients and their families, and eventually lead to increased economic self-sufficiency and a reduction in their dependence on SSI payments. At a minimum, the MDPs must—

(a) Develop and implement interventions for child SSI recipients between the ages of 14 and 16 at the time the project services are initiated for them and their families. The MDP interventions should be based on the best available research evidence or data from State experience relating to coordinating, arranging, and providing services and supports for child SSI recipients and their families.

The MDP interventions must be designed to meet PROMISE's goals (for both the children and their families), which include:

• Increased educational attainment for the child SSI recipients and their parents;

• Improved rates of employment, wages/earnings, and job retention for the child SSI recipients and their parents;

• Increased total household income; and

• Long-term reduction in SSI payments.

(b) Establish partnerships (through subgrants subcontracts, memoranda of understanding, or other formal agreements) with State and local agencies and other entities to improve interagency collaboration in carrying out the MDP interventions and in developing innovative methods of providing services and supports that will lead to better outcomes for child SSI recipients and their families. For example, these methods could include better use of existing services, identification of gaps in services, and sharing resources, data, or other information so long as such sharing of data or information is permitted under any applicable Federal or State laws or regulations that protect the confidentiality or privacy of personally identifiable information or records;

(c) Participate, and require any subgrantees or partners to participate, in collaboration with the national evaluator, in ongoing data collection and analysis, in a manner consistent with any applicable Federal or State laws or regulations that protect the confidentiality or privacy of personally identifiable information or records, both to determine the effectiveness of the MDP, including specific interventions, and to allow for mid-course corrections in the project as needed during the demonstration period, including by—

(1) Cooperating with the national evaluator in the random assignment of eligible child participants and their families either to the group that receives the MDP interventions (treatment group) or to the group that does not receive the MDP interventions, but receives services they would ordinarily receive (control group), and in the collection of data for the evaluation as permitted under applicable Federal or State laws or regulations; and

(2) Designing and implementing a plan for continually assessing the progress of the MDP interventions, for the purpose of ongoing program evaluation.

Project Activities. To meet the requirements of this priority, the MDP, at a minimum, must conduct the following activities:

(a) Partnerships

(1) Establish a formal partnership with agencies and organizations in the State that play, or have the potential to play, a substantial role in the development and implementation of policies and practices affecting child SSI recipients and their families and in the provision of services and supports to those children and their families.

(i) At a minimum, partners must include the State agencies or equivalents responsible for administering programs that provide the following services:

• State VR services under Title I of the Rehabilitation Act;

• Special education and related services under Part B of the IDEA;

• Workforce Development services under Title I of the Workforce Investment Act (WIA), including Youth Services described in the WIA (Section 129(c)(2));

• Medicaid services under Title XIX of the Social Security Act;

• Temporary Assistance for Needy Families under the Personal Responsibility and Work Opportunity Reconciliation Act;

• Developmental/intellectual disabilities services; and

• Mental health services.

(ii) An applicant may propose a partnership that excludes a required State partner described in paragraph (a)(1)(i) of this section if the applicant provides a strong justification for doing so. A strong justification for excluding a required State partner would be if the applicant can provide the required services and supports and other proposed services and supports (described in Services and Supports under paragraph (b) of the Project Activities section of this notice) to the child participants and their families without the participation of the required partner. However, at least three of the required partners, including the lead coordinating entity, must participate in the partnership.

(iii) In order to meet the requirements described in paragraph (a)(1)(i) or (a)(1)(ii) of this section, applicants may propose to include an established State-level interagency entity such as a State Transition Coordinating Council.

(iv) Applicants may propose other partners that they believe would facilitate the success of the project, such as Employment Networks under the Ticket to Work Program, employers or employer organizations, community colleges, institutions of higher education, independent living centers, and agencies that administer or carry out adult education programs, career and technical education programs, and maternal and child welfare programs.

(v) Applicants must establish procedures governing the exchange of information by the partners in accordance with any applicable Federal or State laws or regulations that protect the confidentiality or privacy of personally identifiable information or records. This includes establishing procedures to ensure that personally identifiable information from education records is exchanged among the partners in compliance with the requirements of the Family Educational Rights and Privacy Act (FERPA),⁵ 20 U.S.C. 1232g, and its implementing regulations in 34 CFR part 99, and the IDEA confidentiality of information provisions in 20 U.S.C. 1417(c) and 34 CFR 300.622, which protect the privacy of personally identifiable information in education records and generally require the prior consent of the parent or eligible student for the disclosure of such information to third parties, unless there is an exception that would permit the disclosure without consent.

⁵ Applicants must ensure the confidentiality of individual data, consistent with the requirements of FERPA, 20 U.S.C. 1232g, the confidentiality of information provisions in section 617(c) of the IDEA, and any other applicable Federal or State laws or regulations that protect the privacy or confidentiality of personally identifiable information or records. FERPA generally prohibits school districts and schools that receive Federal funds from the U.S. Department of Education from disclosing, without the prior written consent of a parent or an eligible student, personally identifiable information from education records. See 20 U.S.C. 1232g and 34 CFR 99.30. (An eligible student is a student who is 18 years of age or older or attends a postsecondary institution at any age). However, certain disclosures may occur, without the prior written consent of a parent or an eligible student, under one of FERPA's specific exceptions to the prior consent requirement. See 34 CFR 99.31. In general and consistent with FERPA, IDEA's confidentiality of information provisions require prior written consent for disclosures of personally identifiable information contained in education records, unless a specific exception applies (20 U.S.C. 1417(c) and 34 CFR 300.622). Questions about FERPA can be forwarded to the Family Policy Compliance Office (www.ed.gov/fpco) at (202) 260-3887 or FERPA@ed.gov.

(b) Services and Supports for Participants in the Treatment Group

(1) Develop and implement interventions for child SSI recipients and their families that include a coordinated set of services and supports designed to improve the education and employment outcomes (described under Performance Measures in paragraph (c) of the Evaluation and Project Assessment Activities section of this notice) of child SSI recipients and their families. The MDP must also develop innovative methods of providing these services and supports, including coordinating and using resources available through existing programs or funding streams.

In selecting the services and supports to be provided, the applicant must consider the best available information on promising strategies and practices, including, where available, evidence of the effectiveness of the proposed strategies and practices.

(i) As a subset of the proposed services and supports, each MDP must provide or arrange for the following—

(A) Case management: Each MDP must provide case management services for the duration of the project to ensure that services for the participating children and their families are appropriately planned and coordinated and to assist project participants in navigating through the services, supports, and benefits available from the larger service delivery system. Case management services must include, at a minimum:

(1) Identifying, locating, and arranging for needed services and supports for the children and their families;

(2) Coordinating services provided directly by the MDP with other services that are available in the larger service delivery system; and

(3) Transition planning to assist the participating children in setting post-school goals and to facilitate their transition to an appropriate post-school setting, including postsecondary education, training, or competitive employment in an integrated setting. Transition planning must be conducted in coordination with the local educational agency ⁶ and, as appropriate, with the consent of the parents or a child who has reached the age of majority under State law, with other agency partners, such as the VR agency, the State Medicaid Agency or other public insurance program, and workforce investment agencies;

⁶ Under the IDEA, beginning not later than the first IEP to be in effect when the child turns 16, or younger if determined appropriate by the IEP Team and updated annually thereafter, the IEP must include (1) appropriate measurable postsecondary goals based upon age appropriate transition assessments related to training, education, employment, and where appropriate, independent living skills; and (2) the transition services (including courses of study) needed to assist the child in reaching those goals. 34 CFR 300.320(b). These determinations are made through the IEP process in a meeting of the IEP Team. If a purpose of an IEP Team meeting is the consideration of the child's postsecondary goals and the transition services needed to assist the child in reaching those goals, the requirements in 34 CFR 300.321(b) apply to the participants at that meeting. Section 300.321(b)(3) provides that: To the extent appropriate, with the consent of the parents or a child who has reached the age of majority under State law, the public agency, a term that includes the local educational agency, must invite a representative of any participating agency that is likely to be responsible for providing or paying for transition services.

(B) Benefits counseling and financial capability services: Each MDP must include ongoing training for the child participants and their families on SSA work incentives, eligibility requirements of various programs, earnings rules, asset accumulation, and financial literacy and planning;

(C) Career and work-based learning experiences: At least one paid work experience in an integrated setting must be provided for children participating in the project before leaving high school. In addition, other skill development opportunities must be provided in an integrated setting, such as volunteering or participating in internships, community services, and on-the-job training experiences, including experiences designed to improve workplace basic skills (sometimes called “soft skills”); and

(D) Parent training and information: At a minimum, the project must provide information and training to the family of participating children with respect to:

(1) The parents' role in supporting and advocating for their children's education and employment goals, including the importance of high expectations for their children's participation in education and competitive employment;

(2) Resources for improving the education and employment outcomes of the parents and the economic self-sufficiency of the family, including through—

(i) The acquisition of basic education, literacy, and job-readiness skills, and

(ii) Job training and employment services.

(ii) The MDPs also must provide, or arrange for the provision of, other services and supports designed, in combination with the required services, to improve education and employment outcomes for participating children and their parents. Examples of other services include:

(A) Youth development activities: Examples include training in job-seeking skills, life skills, independent living skills, self-advocacy, self-determination, and conflict resolution; exposure to personal leadership development and mentoring opportunities; and exposure to post-school supports through structured arrangements with postsecondary education programs and adult service agencies;

(B) Career development/preparatory activities: Examples include career assessments to help identify career preferences, interests, and skills; career counseling and exploration, including structured exposure to postsecondary education and other life-long learning opportunities; exposure to career opportunities that ultimately lead to a living wage; and information about educational requirements, entry requirements, and income and benefits potential;

(iii) Extended and experiential learning opportunities in integrated settings;

(iv) Job search and job placement assistance, job development, and post-placement employment supports;

(v) Activities designed to engage employers in providing work experiences and in employing participants of the project;

(vi) Health and behavioral management and wellness services, including transition to adult services;

(vii) Literacy training;

(viii) Training in the use of technology and assistive technology services and devices, including the use of assistive technology for education, training, and employment purposes; and

(ix) Independent living activities such as assistance in locating and obtaining housing, health care, and personal attendant services; transportation training and subsidies; child care services; and other community supports.

(c) Participant Outreach and Recruitment

Within two years of the initiation of the project:

(1) Plan for and conduct outreach and recruitment activities (such activities may include mailings, phone calls, informational meetings at State or local agencies or schools, home visits, and other efforts targeted to this population); ⁷

⁷ To assist in these efforts, SSA will, upon completion of an MOU between SSA and the State, provide a list of child SSI recipients and the available contact information in order to assist each funded project in identifying potential participants.

(2) Obtain consent for the participation of a minimum of 2,000 child SSI recipients;

(3) Initiate services to participants in the treatment group who must be between the ages of 14 and 16 at the time that project services are initiated; and

(4) As part of the plan for outreach and recruitment, prepare and provide potential participants with a recruitment packet that includes—

(i) A description of the full scope of the project and the goals and objectives of the project with respect to participant outcomes and evaluation activities, including the use of random assignment to determine who will receive MDP interventions, and an explanation of what will be expected of the control group members (e.g., participation in surveys at 18 months, and potentially 60 months after random assignment);

(ii) An MDP enrollment form developed by the national evaluator that includes sufficient demographic and other information to classify the participants into subgroups for further analysis; and

(iii) A written consent form to participate in the project for the parent and, if applicable, the child, that will be developed jointly by the MDP and the national evaluator. As part of the consent, the project requirements must be fully explained to the parent and, if appropriate, to the child. If appropriate, a child who has reached the age of majority under State law must sign the consent form. The consent form must obtain from the parent or child, if appropriate, written consent to participate in the program and to permit the disclosure of personally identifiable information from relevant, privacy-protected records either to the national evaluator or to the project partners in order for them to share data needed to carry out project activities.

All outreach and recruitment materials and forms must be developed and provided in accessible formats for individuals with disabilities, using jargon-free, easily comprehended language, and provided in the family's native language or through another mode of communication, unless it is clearly not feasible to do so.

(d) Technical Assistance and Training

(1) Provide or arrange for the provision of technical assistance, professional development, and training for State and local staff who will carry out project and evaluation activities to ensure that the interventions are implemented in accordance with the MDP design and the needs of the national evaluation. At a minimum, the MDP must provide for the following:

(i) Development of all necessary information and materials about the MDP interventions and project assessments, including the roles and responsibilities of all partners and staff at the State and local levels;

(ii) Twice-a-year meetings in which local site staff are required to participate and for which their participation is supported with project funds. For single State applicants, conduct these meetings either at the location of the lead coordinating entity or at a central location in the State. For consortia, conduct these meetings at a mutually agreeable location. The types of professional development and training to carry out the MDP interventions will be determined by the lead coordinating entity, its partners, and ED. The professional development will be provided by personnel from those entities or other experts. One or more sessions at the semi-annual meetings will be led by the national evaluator in order to train appropriate State and local staff on the evaluation requirements, including the random assignment and data collection processes consistent with any applicable Federal or State laws or regulations that protect the privacy or confidentiality of any relevant data. The first semi-annual meeting must occur early in the first year of the project before random assignment begins; and

(iii) Other ongoing technical assistance that the lead coordinating entity and its partners, including the national evaluator, determine is necessary for fidelity of implementation of the MDP interventions and the evaluation and project assessment activities.⁸

⁸ ED and SSA plan to fund technical assistance to PROMISE projects on program implementation, data collection, and evaluation fidelity. Projects should provide or arrange for technical assistance beyond what will be funded by ED and SSA.

Evaluation and Project Assessment Activities. Each MDP must be designed to show progress in the key outcome measures to be evaluated under the PROMISE initiative (described in the Performance Measures under paragraph (c) of the Evaluation and Project Assessment Activities section of this notice), as well as the other outcomes that a project proposes to measure. To meet the requirements of this priority, each MDP, at a minimum, must participate in the following activities.

(a) Rigorous Program Evaluation

(1) SSA, in collaboration with ED, will conduct a rigorous evaluation of the PROMISE program using a randomized controlled trial design for each project to obtain evidence of the effectiveness of the MDP interventions carried out under the PROMISE program. MDPs and their designated partners at the State and local levels must:

(i) Agree to allow random assignment to determine which half of the at least 2,000 children and their families recruited for the project will receive the MDP interventions (treatment group) and which half of the children and families will receive the services they ordinarily would receive and will not receive the MDP interventions (control group);

(ii) Ensure that State or local site staff, wherever MDP enrollment forms are being collected, assist in the random assignment process. Staff will be required to provide information from each child's enrollment form (e.g., name, Social Security number, gender, disability, age) to the national evaluator through a secure Web-based random assignment system or a secure phone system. The Web or phone systems will be developed by the national evaluator. After staff provide the data items that are necessary to conduct the random assignment, the results of the random assignment will be made available to the project staff;

(iii) Ensure that State or local staff communicate the results of the random assignment (i.e., whether the participants have been assigned to the treatment group or the control group) to the child SSI recipients and their families;

(iv) Provide the MDP interventions only to the children and their families assigned to the treatment group; and

(v) Require State and local staff involved in the random assignment process to receive training from the national evaluator at the technical assistance and training meetings (described in paragraph (d)(1) of the Technical Assistance and Training section of this notice) arranged by the State.

(b) Formative Evaluation

(1) Each MDP must develop and implement a plan for conducting a formative evaluation of the project's activities and model, consistent with the proposed logic model and data collection plan, to assess the project's performance and progress in achieving its goals and inform decision making (as outlined in paragraph (j) in the Application Requirements section of this notice).

(c) Performance Measures

(1) Each project must be designed to track its progress on the key outcomes to be evaluated under the PROMISE program as well as the other outcomes that a project proposes to measure.

(2) In collaboration with the national evaluator, the performance of the PROMISE program will be assessed on the basis of established key outcome measures for participating child SSI recipients and their families, as reflected in the goals of the program provided in the priority:

(i) Increased educational attainment (high school completion, diploma or equivalent) and enrollment and persistence in postsecondary education or training by child SSI recipients and their parents;

(ii) Increased number of individuals, including both child SSI recipients and their parents, earning credentials after high school (e.g., postsecondary degree, technical certification, occupational licensure, or other industry-recognized credential);

(iii) Improved employment outcomes (e.g., competitive employment and increased earnings, number of hours worked per week, job retention) for child SSI recipients and their parents;

(iv) Reduced use of public benefits provided to the individual or family (e.g., cash benefits and other benefits with directly measurable economic value);

(v) Increased total gross income of all the members of a household who are 15 years old and older (included in the total are amounts reported separately for wage or salary income; net self-employment income; interest, dividends, or net rental or royalty income or income from estates and trusts; Social Security or Railroad Retirement income; Supplemental Security Income; public assistance or welfare payments; retirement, survivor, or disability pensions; and all other income); and

(vi) Post-program reduction in SSI payments as a result of participation in the MDP (i.e., amounts paid to children and their families who participate in the MDP interventions are expected to be less than amounts paid to participants randomly assigned to receive services they typically receive).

(3) In addition to the key program outcome measures, each MDP must develop project measures that assess the project's performance in achieving its goals consistent with the purpose of the priority and the project's logic model.

(i) The set of project measures must include interim measures that assess the progress toward achieving the project's outcomes, including the attainment of milestones and benchmarks consistent with the logic model. For example, the applicant may consider measures related to school attendance, project attrition, work experiences, enrollment in education or workforce development programs, or the use of partner-provided services for which the child participants and their families are eligible.

(ii) The MDP must report progress and performance on its measures at least quarterly to the Office of Special Education Programs (OSEP) and the national evaluator and use this information to inform decision making consistent with any applicable Federal or State laws or regulations that protect the privacy or confidentiality of any personally identifiable information or records.

(d) Data Collection

(1) Each MDP must develop and implement a plan for collecting data and for cooperating with the national evaluator in its efforts to obtain data and other information on the MDP. The plan must be designed to ensure that the MDP will:

(i) Assist in collecting baseline (pre-program) data using the MDP enrollment form provided by the national evaluator;

(ii) Require project partners and staff at the State and local levels to cooperate with the national evaluator's efforts to obtain descriptive information on project implementation such as through surveys, focus groups, or other methods.

(iii) Have the capacity to track and manage project information, such as referrals and service participation, and document the services and supports received by the child participants and their families.

(iv) Ensure the State administrative data collected by various State agency PROMISE partners are shared with the national evaluator, subject to obtaining required consent under FERPA and the IDEA confidentiality of information provisions and any other applicable Federal or State laws or regulations that protect the privacy or confidentiality of personally identifiable information or records. These State data may include information related to services provided, interim and long-term outcomes, and project progress and performance. Examples of State administrative data include education records maintained by a State educational agency through its statewide longitudinal data system (e.g., transcripts, State assessment data, attendance records, high school completion data, postsecondary enrollment information), employment and earnings information obtained through the State Unemployment Insurance system, service data collected by the State VR system, and health records maintained by the State Medicaid office;

(v) Collect data to evaluate the performance of the MDP on the key outcome measures (described in the Performance Measures under paragraph (c)(1) of the Evaluation and Project Assessment Activities section of this notice), and develop and implement a process to identify and collect the data needed to support project measures that assess the MDP's progress and performance, including by making data available from its statewide longitudinal data system(s); and

(vi) Use unique program identifiers that can be matched to various data systems.

Other Project Activities. To meet the requirements of this priority, each MDP, at a minimum, must conduct the following activities:

(a) Maintain ongoing telephone and email communication with the OSEP project officer;

(b) Maintain detailed documentation sufficient for model replication purposes, should the model be successful, including the sources of support for services to participants (other than direct project funds) such as services provided through existing State and local programs;

(c) Communicate and collaborate on an ongoing basis with other federally funded projects, including other MDPs funded under this priority, to share information on successful strategies and implementation challenges regarding the coordination of services and supports for child SSI recipients and their families. ED will encourage ED-funded projects to cooperate with, and provide technical assistance to, PROMISE MDPs when appropriate. The following are examples of federally funded technical assistance centers and projects the MDPs are encouraged to contact: The National Dropout Prevention Center for Students with Disabilities (www.ndpc-sd.org), National Secondary Transition Technical Assistance Center (www.nsttac.org), State Implementation and Scaling-up of Evidence-based Practices Center (http://sisep.fpg.unc.edu), Postsecondary Education Programs Network (www.pepnet.org), IDEA Partnership (www.ideapartnership.org), National and Regional Parent TA Centers (www.parentcenternetwork.org), Parent Training and Information Centers and Community Parent Resource Centers (www.parentcenternetwork.org), Independent Living Research and Utilization Project (www.ilru.org), National Collaborative on Workforce and Disability for Youth (www.ncwd-youth.info), Rehabilitation Research and Training Centers (http://www2.ed.gov/programs/rrtc/index.html), The National Technical Assistance Center for Children's Mental Health (http://gucchdtacenter.georgetown.edu), The Solutions Desk on Helping Youth Transition (www.syvsd.ou.edu), Healthy & Ready to Work National Resource Center (www.syntiro.org/hrtw), TA Partnership for Child and Family Mental Health (www.tapartnership.org), and the National Center for Mental Health Promotion and Youth Violence Prevention (www.promoteprevent.org);

(d) Maintain contact and cooperate with the national evaluator throughout the project period and for one year after the close of the project for follow-up data collection and other needs; and

(e) Contribute relevant MDP information to a central PROMISE Web site that OSEP will make available.

Application Requirements. To be considered for funding under this absolute priority, an applicant must include in its application—

(a) A description of the proposed project, including the applicant's plan for implementing the project. The description must include—

(1) A cohesive, articulated model of partnership and coordination among the participating agencies and organizations;

(2) A logic model that depicts, at a minimum, the goals, activities, outputs, and outcomes of the proposed project. The logic model must specify the contributions of each partner to the activities, outputs, and outcomes of the proposed project. A logic model communicates how a project will achieve its outcomes and provides a framework for the formative evaluation of the project;

Note: The following Web sites provide more information on logic models: www.researchutilization.org/matrix/logicmodel_resource3c.html and http://archive.tadnet.org/model_and_performance?format=html; and

(3) A timeline for implementing the model and achieving project milestones and outcomes consistent with the logic model and the requirements of this priority.

(b) A description of the coordinated set of required and other services and supports that the project proposes to provide to the participating children and their families in order to meet the project's objectives. The description must describe how the services and supports, including the four required services and other services chosen by the project, will be provided, including whether the project will provide the services directly or will arrange for the services to be provided through its partners or other entities (described in Services and Supports under paragraph (b) of the Project Activities section of this notice).

(c) A detailed description of any evidence that the services and supports proposed by the applicant have been implemented previously with the targeted populations of child SSI recipients and their families, or similar populations, albeit on a limited scale or in a limited setting, and have yielded promising results that suggest that more formal and systematic study is warranted. An applicant must provide a rationale for the coordinated set of services or supports that is based on research findings or reasonable hypotheses, including related research or theories in education and other disciplines.

(d) A detailed description of the project's proposed partners (including required partners described in paragraph (a)(1) of the Project Activities section of this notice) that will play a key role in coordinating services and implementing the interventions in the proposed model, including a description of—

(1) The proposed partners' roles and responsibilities under the project;

(2) The proposed partners' commitment to the project, including letters of intent from all proposed partners to enter into an MOU with the lead coordinating entity as described in the Eligibility Information section of this notice;

(3) The plan to coordinate services among partner agencies and other entities to ensure that project resources are used efficiently and effectively; and

(4) The justification to exclude a required State partner, if applicable.

(e) A description of the proposed outreach and recruitment plan, including—

(1) The methods for ensuring that, within two years of the start of the MDP, the project will obtain consent from at least 2,000 child SSI recipients who will be between the ages of 14 and 16 at the time that project services are initiated, and their families.

(2) An assurance that the applicant will secure a signed written consent to participate in the project from the parent or, if applicable, the child; that the consent form will be provided to the parent and the child in an accessible format; and that, as part of the consent, project requirements will be fully explained to the parent and child, including that participation in the program is voluntary on the part of the child and family (described in Participant Outreach and Recruitment under paragraph (c) of the Project Activities section of this notice). The MDP must also obtain any necessary written consent from the parent or, if applicable, the child for the disclosure of personally identifiable information from relevant records, consistent with FERPA, the IDEA confidentiality of information provisions, and any other applicable Federal or State laws or regulations that protect the privacy or confidentiality of personally identifiable information or records, such as the Health Insurance Portability and Accountability Act, which contains specific privacy and security rules protecting health information. In addition, under the State VR Services Program, the requirements in 34 CFR 361.38 (protection, use, and release of personal information) would apply to any records of participants in that VR Services program.⁹

⁹ 34 CFR 361.38(e)(1) provides: Upon receiving the informed written consent of the individual or, if appropriate, the individual's representative, the State unit may release personal information to another agency or organization for its program purposes only to the extent that the information may be released to the involved individual or the individual's representative and only to the extent that the other agency or organization demonstrates that the information requested is necessary for its program.

(f) A description of the applicant's commitment to work with ED, SSA, and the national evaluator for PROMISE to ensure that random assignment and data collection are completed in a manner that supports ED's and SSA's efforts to conduct a rigorous national evaluation of the PROMISE program and the specific interventions and strategies implemented by individual grantees. The application must include an assurance that—

(1) Project staff will assist with the random assignment of recruited children and their families; and

(2) Through MOUs with partners and other participating entities, the national evaluator, ED, and SSA will be provided access to relevant program and project data (e.g., administrative data and program and project performance data) and that, if requested, ED and SSA will be provided data quarterly.

(g) An assurance that the applicant will provide or arrange for the provision of technical assistance and training to ensure consistency in the implementation and evaluation of the MDP, including the fidelity of implementation of the MDP interventions (described in Technical Assistance and Training under paragraph (d) of the Project Activities section of this notice).

(h) A description of the performance measures (and performance targets), including interim measures, the MDP will use to assess its performance and progress toward achieving its goals, consistent with the logic model and the formative evaluation plan.

(i) A description of the data collection plan that—

(1) Outlines the process for assessing, collecting, and sharing project data and other information among the collaborating partners and the national evaluator (described in Data Collection in paragraph (d) of the Evaluation and Project Assessment Activities section of this notice), in a manner consistent with any Federal or State laws or regulations that protect the confidentiality or privacy of personally identifiable information or records; and

(2) Identifies the systems or tools that will be used for storing, managing, analyzing, and reporting data, including a description of the applicant's capacity to track and manage project information (e.g., referrals and service participation) and document the services and supports received by the children and their families, and for the partners or other participating entities to communicate about, and collaborate on, the MDP's services, processes, and data collection plan.

(j) A description of the applicant's plan, consistent with the proposed logic model and data collection plan, for conducting a formative evaluation of the proposed project's activities and model, including—

(1) The data to be periodically collected for the formative evaluation, including data related to the fidelity of implementation, stakeholder acceptability, and descriptions of the site context;

(2) The methods the applicant will use to collect these data;

(3) How these data will be reviewed by the project, when they will be reviewed (consistent with the timeline required in paragraph (a)(3) of the Application Requirements section of this notice), and how they will be used during the course of the project to adjust the model or its implementation to increase the model's usefulness, generalizability, and potential for sustainability; and

(4) How the formative evaluation will use clear performance objectives to ensure continuous improvement in the operation of the proposed project, including objective measures of progress in implementing the project and ensuring the quality of products and services.

(k) A plan for attendance at the following:

(1) A one and one-half day kick-off meeting to be held in Washington, DC, after receipt of the award and an annual planning meeting to be held in Washington, DC, with the OSEP project officer during each subsequent year of the project period.

Note: Within 30 days of the receipt of the award, a post-award teleconference must be held between the OSEP project officer and the grantee's project director or other authorized representative.

(2) A three-day project directors' conference in Washington, DC, during each year of the project period;

(3) Three, two-day trips annually to attend Department briefings, Department-sponsored conferences, and other meetings, as requested by OSEP; and

(4) A one-day intensive review meeting in Washington, DC, that will be held during the last half of the third year of the project period.

Fourth and Fifth Years of the Project

In deciding whether to continue funding the project for the fourth and fifth years, the Secretary will consider the requirements of 34 CFR 75.253(a), and in addition—

(a) The recommendation of a review team consisting of experts selected by the Secretary. This review will be conducted during a one-day intensive meeting in Washington, DC, that will be held during the second half of the third year of the project period;

(b) The timeliness and effectiveness with which all requirements of the negotiated cooperative agreement have been or are being met by the project including successfully obtaining consent from at least 2,000 child SSI recipients and their families;

(c) The number of child SSI recipients and their families still being served and the duration of their participation in project services; and

(d) The quality, relevance, and usefulness of the project's activities and products; the degree to which the project's activities and products are aligned with the project's objectives; and the likelihood that current performance and progress will result in the project achieving its proposed outcomes.

Waivers

Applicants may apply for waivers that are currently authorized under existing Federal programs if the applicant believes having one or more waivers would enable the applicant to achieve better outcomes for the project participants. Applicants may request waivers under authorities administered by any of the Federal agencies participating in this interagency initiative—ED, DOL, DHHS, and SSA. Applicants seeking waivers must apply directly to the agency that administers the relevant waiver authority. However, to assist us in ensuring that the effect on PROMISE projects is carefully considered in processing any waiver request, we are asking applicants to submit to the Department of Education an explanation of the waivers the applicant is requesting, why the applicant believes the waivers are needed for the PROMISE project, and how project outcomes might be enhanced with the approval of such waivers. The applicant should not refer to the requested waivers in its application narrative for PROMISE. The waiver content will not be considered as part of the application scoring process. The approval of any requested waivers will be at the sole discretion of the relevant Federal agency. For example, waivers of SSA program rules will be approved or denied by SSA. For further information about waivers see www.ed.gov/promise. Information on waivers requested by the applicant should be sent by August 19, 2013 as an email attachment to Corinne Weidenthal at corinne.weidenthal@ed.gov.

Within this absolute priority, we are particularly interested in applications that address the following invitational priority.

Invitational Priority

Under 34 CFR 75.105(c)(1) we do not give an application that meets this invitational priority a competitive or absolute preference over other applications.

This priority is:

Outcome-Based Payments. The Secretary is especially interested in applicants that propose to incorporate into their PROMISE MDPs an Outcome-based Payment (OBP) model that ties payments to service providers to the achievement of outcomes or established milestones.

Although the OBP model is distinct from the fee-for-service payment model, the OBP model has been used in the health-care arena to offer financial rewards to providers that achieve, improve, or exceed their performance on specified quality, cost, and other benchmarks. Under an OBP arrangement, providers are rewarded for meeting pre-established targets for delivery of services, thus creating an incentive to meet performance objectives. However, for OBP arrangements to be effective, all the factors that affect performance must be considered including: Motivation, skills, an understanding of the goals, and the ability to measure progress. For example, one type of OBP model is performance-based contracting. Performance-based contracts typically:

• Emphasize results related to output, quality, and outcomes rather than how the work is performed;

• Specify deliverables, measurable performance standards, and clearly defined objectives and timeframes;

• Use quality assurance plans;

• Provide performance incentives and consequences for nonperformance; and

• Tie payment to deliverables, performance measures, and outcomes.

In inviting OBP models, ED is interested in demonstrating how payment models can help achieve positive outcomes for child SSI recipients and their families, consistent with those identified in the absolute priority. ED's objectives in establishing this OBP invitational priority are to:

• Test a model that limits at least part of the risk of government funding for unachieved outcomes by clearly defining performance-based consequences (rewards or sanctions) for service providers.

• Learn whether the OBP concept is feasible in this arena given the complexity of needs and number of agencies involved in serving child SSI recipients and their families.

• Determine whether paying only for specific outcomes achieved at predetermined milestones within the project period creates an incentive structure that promotes the achievement of PROMISE's goals.

Applicants that address this invitational priority must include a plan for implementing the OBP model during the project. The plan must describe a validation methodology and a payment plan that (a) is derived from quantifiable data and (b) measures performance against outcome targets for the target population relative to a well-defined comparison population. The applicant must describe the terms of the payment arrangement between the applicant and the provider, including the agreed performance milestones and targeted outcomes and the payments due upon their achievement.

For more information, see the following Web site: http://www.mass.gov/chia/docs/pc/2009-02-13-pay-for-performance-c3.pdf.

Definitions

Background

The following definitions are provided to ensure that applicants have a clear understanding of how we are using these terms in the priority. These definitions apply in any year in which this program is in effect. These definitions are based on definitions that ED uses or relies on in other contexts.

Competitive employment means work:

(a) In the competitive labor market that is performed on a full-time or part-time basis in an integrated setting; and

(b) For which an individual is compensated at or above the minimum wage, but not less than the customary wage and level of benefits paid by the employer for the same or similar work performed by individuals who are not disabled.

Source: State Vocational Rehabilitation Services Program, 34 CFR 361.5(b)(11).

Education records means those records that are directly related to a student and maintained by an educational agency or institution or by a party acting for the agency or institution. Source: FERPA (20 U.S.C. 1232g(a)(4)(A)) and the FERPA regulations at 34 CFR 99.3 (definition of “Education records.”)

Experiential learning means learning through experience. The individual is encouraged to be directly involved in the experience and then reflect on the experience using analytic skills, in order to gain a better understanding of the new knowledge and retain the information. For further information: www.infed.org/biblio/b-explrn.htm.

Extended learning opportunities (ELOs) means safe, structured learning environments for students outside the traditional school day. ELOs include after-school, before-school, evening, weekend, and summer learning programs. ELOs come in many forms and can include tutoring, volunteering, academic support, community service, organized sports, homework help, and art and music programs. Source: www.ccsso.org/Documents/2009/The_Quality_Imperative_a_2009.pdf.

Families includes a wide range of relationships, including spouse, parents, parents-in-law, children, brothers, sisters, grandparents, grandchildren, stepparents, stepchildren, foster parents, foster children, guardianship relationships, same-sex and opposite-sex domestic partners, and spouses or domestic partners of the aforementioned, as applicable. Source: www.opm.gov/oca/leave/html/FamilyDefs.asp.

Fidelity of implementation means the accurate and consistent delivery of the intervention in the way in which it was designed to be delivered. Source: www.nrcld.org/rti_manual/pages/RTIManualSection4.

Integrated setting, as used in the context of education or employment, means a setting typically found in the community in which individuals with disabilities interact with non-disabled individuals, other than non-disabled individuals who are providing services to such individuals, to the same extent that non-disabled individuals in comparable positions interact with other persons. Source: State Vocational Rehabilitation Services Program, 34 CFR 361.5(b)(33)(ii).

Logic model means a well-specified conceptual framework that identifies key components of the proposed project, practice, strategy, or intervention (i.e., the active “ingredients” that are hypothesized to be critical to achieving the relevant outcomes) and describes the relationships among the key components and outcomes, theoretically and operationally. For further information: www.researchutilization.org/matrix/logicmodel_resource3c.html; and www.tadnet.org/pages/589.

Parent means (from 34 CFR 300.30):

(a) Parent means—

(1) A biological or adoptive parent of a child;

(2) A foster parent, unless State law, regulations, or contractual obligations with a State or local entity prohibit a foster parent from acting as a parent;

(3) A guardian generally authorized to act as the child's parent, or authorized to make educational decisions for the child (but not the State if the child is a ward of the State);

(4) An individual acting in the place of a biological or adoptive parent (including a grandparent, stepparent, or other relative) with whom the child lives, or an individual who is legally responsible for the child's welfare; or

(5) A surrogate parent who has been appointed in accordance with section 300.519 or section 639(a)(5) of the Act.

(b) (1) Except as provided in paragraph (b)(2) of this section, the biological or adoptive parent, when attempting to act as the parent under this part and when more than one party is qualified under paragraph (a) of this section to act as a parent, must be presumed to be the parent for purposes of this section unless the biological or adoptive parent does not have legal authority to make educational decisions for the child.

(2) If a judicial decree or order identifies a specific person or persons under paragraphs (a)(1) through (4) of this section to act as the “parent” of a child or to make educational decisions on behalf of a child, then such person or persons shall be determined to be the “parent” for purposes of this section.

Source: 34 CFR 300.30 of the IDEA regulations.

Personally identifiable information includes, but is not limited to, the following—

(a) The student's name;

(b) The name of the student's parent or other family members;

(c) The address of the student or student's family;

(d) A personal identifier, such as the student's Social Security number, student number, or biometric record;

(e) Other indirect identifiers, such as the student's date of birth, place of birth, and mother's maiden name;

(f) Other information that, alone or in combination, is linked or linkable to a specific student that would allow a reasonable person in the school community, who does not have personal knowledge of the relevant circumstances, to identify the student with reasonable certainty; or

(g) Information requested by a person who the educational agency or institution reasonably believes knows the identity of the student to whom the education record relates.

Source: 34 CFR 99.3 of the FERPA regulations; see also 34 CFR 300.32 of the IDEA regulations.

Waiver of Proposed Rulemaking: Under the Administrative Procedure Act (5 U.S.C. 553), ED generally offers interested parties the opportunity to comment on proposed priorities, definitions, requirements, and selection criteria. Section 437(d)(1) of GEPA, however, allows the Secretary to exempt from rulemaking requirements regulations governing the first grant competition under a new or substantially revised program authority. This is the first grant competition for this initiative, as authorized under the Fiscal Year 2012 Consolidated Appropriations Act, and therefore qualifies for this exemption. Due to the extensive public input received in the development of this priority, and in order to ensure timely grant awards, the Secretary has decided to forego formal public comment on the priority, definitions, requirements, and selection criteria under section 437(d)(1) of GEPA. The Secretary has gathered input on the priority, definitions, requirements, and selection criteria through a public input notice, which is posted on the following Web site: www.ed.gov/promise. The priority, definitions, requirements, and selection criteria will apply to the FY 2013 grant competition and any subsequent year in which we make awards from the list of unfunded applicants from this competition.

Program Authority: Consolidated Appropriations Act, 2012 (Pub. L. 112-74).

Applicable Regulations: (a) The Education Department General Administrative Regulations (EDGAR) in 34 CFR parts 74, 75, 77, 79, 80, 81, 82, 84, 86, 97, 98, and 99. (b) The Education Department debarment and suspension regulations in 2 CFR part 3485.

II. Award Information

Type of Award: Cooperative agreements.

Estimated Available Funds: $100,000,000. Dependent upon the number of awards that are made, these funds would largely be used to support years one and two, and possibly year three, of PROMISE project activities.

Estimated Range of Awards: $22,500,000-$50,000,000 for 5 years.

Estimated Average Award Size: $37,500,000 for 5 years.

Estimated Number of Awards: 3 to 6. Contingent upon the quality of applications, the Secretary will make an award to at least one consortium applicant in this competition.

Maximum Award: $50,000,000 for 5 years. We will not consider any application that proposes an award size for a project period of up to 60 months exceeding an annual average of $6,500 per child SSI recipient and his or her family served. Therefore, an applicant proposing to serve the minimum treatment group size of 1,000 child SSI recipients and their families for five years may request an annual average funding level of up to $6,500 per child and his or her family, which corresponds to a five-year award of up to $32,500,000.

An applicant requesting the maximum award of $50,000,000 must propose to serve at least 1,539 child SSI recipients and their families in the treatment group for a five year project period. Projects may spend more than $6,500 per year to serve a particular child and his or her family during the operation of the project. Projects may also propose a funding level for a single 12-month budget period that exceeds $6,500 per child and his or her family served. However, the average annual funding level for all of the project's budget periods may not exceed $6,500 per child SSI recipient and his or her family served. The Assistant Secretary for Special Education and Rehabilitative Services may change the maximum amount through a notice published in the Federal Register.

Note: The Department is not bound by any estimates in this notice.

Project Period: Up to 60 months. Grants awarded under this competition may be for a project period of up to five years. Depending on the availability of funds, the Department will make continuation awards for years two and three of the project period in accordance with section 75.253 of EDGAR (34 CFR 75.253). However, to ensure that continuation funds will be used only for high-quality and effective projects, in determining whether to award continuation grants for years four and five the Department will consider whether: (1) Funds are available; (2) the grantee meets the requirements in section 75.253 of EDGAR; and (3) the grantee is achieving the intended outcomes of the grant (see specific factors to be considered in the Fourth and Fifth Years section of this notice).

III. Eligibility Information

1. Eligible Applicants: Eligible applicants are the 50 States and the District of Columbia. A consortium of States may also apply. A grantee, subgrantee, or partner under this program is not eligible to receive funding for the SSA national evaluation contract. An applicant must meet the following requirements to be eligible to compete for funding under this program:

(a) Single State applicant. A single State with adequate child SSI recipients, as described in paragraph (d) of this section, may apply. The State applicant must:

(1) Designate a lead coordinating entity, which must be a State agency; and

(2) Submit an application that has been signed by the State's Governor and the administrative head of the State's lead coordinating entity.

(b) Consortium of States applicant. A consortium of States may apply in order to meet the minimum sample size eligibility requirement, as described in paragraph (d) of this section.

(1) One of the States participating in the consortium must submit an application on behalf of the consortium;

(2) Each of the consortium States must designate a lead coordinating entity, which must be a State agency;

(3) The application must be signed by the Governor of each State and the administrative head of each State's lead coordinating entity;

(4) The applicant on behalf of the consortium is the grantee and is legally responsible for the use of all grant funds and ensuring that the project is carried out by the consortium in accordance with Federal requirements;

(5) Each member of the consortium is legally responsible to carry out the activities it agrees to perform (EDGAR, 34 CFR 75.129); and

(6) Each State participating in the consortium must have partnerships with at least three common agencies (or equivalent for administering common programs). (Described in Partnerships under paragraph (a) of the Project Activities section of this notice.)

(7) Each State participating in the consortium must provide the coordinated set of required and other services and supports as proposed in the application (described in paragraph (b) of the Application Requirements section of this notice.) This set of coordinated services and supports must be the same across all States in the consortium.

(c) Lead coordinating entity. The lead coordinating entity must partner with other State agencies and is encouraged to partner with local agencies and organizations that play or have the potential to play a substantial role in the development and implementation of policies and practices affecting child SSI recipients and their families (see Partnerships under the Project Activities section of this notice and the related application requirements).

(d) Minimum sample size. The State or consortium of States must have a sufficient number of children between the ages of 14 and 16 who receive SSI to, within two years of the start of the project, recruit the minimum sample size of 2,000 child SSI recipients into the MDP and begin providing MDP interventions to half of those recruited. This sample size is necessary to assess the effectiveness of each MDP. If the MDP chooses to exceed the minimum sample size, half of the child SSI recipients must still be assigned to the treatment group and half to the control group. Each MDP will be evaluated separately because ED and its Federal PROMISE partners expect grantees to vary in their approaches to implementing PROMISE (see the Evaluation and Project Assessment Activities section of this notice).

2. Cost Sharing or Matching: This program does not require cost sharing or matching.

3. Other General Requirements:

(a) The projects funded under this competition must make positive efforts to employ and advance in employment qualified individuals with disabilities (see section 606 of IDEA).

(b) Applicants and the grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html. To obtain a copy from ED Pubs, write, fax, or call the following: ED Pubs, U.S. Department of Education, P.O. Box 22207, Alexandria, VA 22304. Telephone, toll free:

1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.418P.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Notice of Intent To Apply: ED will be able to develop a more efficient process for reviewing grant applications if it has a better understanding of the number of entities that intend to apply for funding under this competition. Therefore, we strongly encourage each potential applicant to notify ED by sending a short email message indicating the applicant's intent to submit an application for funding. If the applicant is submitting an application on behalf of a consortium also indicate the States that will be involved. The email need not include information regarding the content of the proposed application. This email notification should be sent to Corinne Weidenthal at corinne.weidenthal@ed.gov.

Applicants that fail to provide this email notification may still apply for funding.

3. Content and Form of Application Submission: Requirements concerning the content of an application, together with the forms you must submit, are in the application package for this competition. Page Limit: The application narrative (Part III of the application) is where you, the applicant, address the selection criteria that reviewers use to evaluate your application. You must limit Part III to the equivalent of no more than 100 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

4. Submission Dates and Times:

Applications Available: May 21, 2013.

Deadline for Notice of Intent to Apply: June 20, 2013.

Dates of Pre-Application Webinars: Interested parties are invited to participate in pre-application webinars. The pre-application webinars with staff from ED and its Federal PROMISE partners will be held on May 30, 2013 and June 4, 2013; and a teleconference will be held on June 27, 2013, between 2:00 p.m. and 3:30 p.m., Washington, DC time.

For further information about the pre-application webinars and teleconference, see the PROMISE Web site at www.ed.gov/promise.

Deadline for Transmittal of Applications: August 19, 2013.

Applications for grants under this competition must be submitted electronically using the Grants.gov Apply site (Grants.gov). For information (including dates and times) about how to submit your application electronically, or in paper format by mail or hand delivery if you qualify for an exception to the electronic submission requirement, please refer to section IV. 8. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

5. Intergovernmental Review: This program is subject to Executive Order 12372 and the regulations in 34 CFR part 79. Information about Intergovernmental Review of Federal Programs under Executive Order 12372 is in the application package for this competition. Please note that, under 34 CFR 79.8(a), we have waived the standard 60-day intergovernmental review period in order to make awards by the end of FY 2013.

6. Funding Restrictions: We reference regulations outlining funding restrictions in the Applicable Regulations section of this notice.

7. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

8. Other Submission Requirements:

Applications for grants under this competition must be submitted electronically unless you qualify for an exception to this requirement in accordance with the instructions in this section.

a. Electronic Submission of Applications

Applications for grants under the PROMISE competition, CFDA number 84.418P, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the PROMISE competition at www.Grants.gov. You must search for the downloadable application package for this competition by the CFDA number. Do not include the CFDA number's alpha suffix in your search (e.g., search for 84.418, not 84.418P).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Corinne Weidenthal, U.S. Department of Education, 400 Maryland Avenue SW., Room 4115, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.418P), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.418P), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Process and Evaluation Criteria

1. Selection Criteria: The selection criteria for this competition are based on 34 CFR 75.210 and include selection criteria established for PROMISE. They are:

(a) Quality of the project design (35 points).

(1) The extent to which the MDP identifies and plans to address gaps and weaknesses in current State service systems for child SSI recipients and their families.

(2) The extent to which the MDP's interventions are likely to meet the needs of child SSI recipients and their families and achieve the desired outcomes.

(3) The extent to which the applicant documents that proposed services and supports are based on the best available evidence including, where available, research that has demonstrated statistically significant positive effects using the strongest possible study designs such as those that meet the standards of the What Works Clearinghouse.¹⁰

¹⁰ The What Works Clearinghouse uses objective and transparent standards and procedures to make its assessment of the scientific merit of studies of the effectiveness of education interventions, and then summarizes the results of its systematic reviews in a set of products. For further information: http://ies.ed.gov/ncee/wwc.

(4) The extent to which the budget is adequate to support the proposed MDP, including whether costs are reasonable in relation to the objectives, design, and potential significance of the proposed project.

(5) The extent to which the MDP has clearly articulated a model of partnership, coordination, and service delivery that includes:

(i) An explicit and comprehensive strategy, with actions that are expected to result in achieving the goals, objectives, and desired outcomes of the proposed project; and

(ii) Measurable goals and benchmarks that are supported by quantitative projections of the accomplishments for each activity and that are attainable given the number of activities to be accomplished and the project period, as well as a timetable with target dates for achievement of the benchmarks and goals.

(6) Quality of the logic model, project implementation plan, and timeline, including the extent to which there is a conceptual framework underlying the demonstration activities and the quality of that framework.

(b) Quality of participant recruitment plan (25 points).

(1) The extent to which the MDP has clearly articulated a realistic outreach and recruitment plan that is likely to lead to at least 2000 child SSI recipients and their families giving consent to participate in the MDP.

(c) Quality of management plan and personnel (35 points).

(1) The adequacy of the management plan that is designed to achieve the objectives of the proposed project on time and within budget.

(2) The adequacy of partnerships within the State or consortium that are designed to achieve project objectives, including:

(i) An overall management plan for the partnerships, including mechanisms for coordinating across agencies and organizations. The plan should also describe how the partnership will be organized to carry out the project, including clearly defined roles and responsibilities for each partner;

(ii) The extent to which the services to be provided by the proposed project involve the collaboration of appropriate partners, including at least three of the required partners, to maximize the impact of the MDP;

(iii) The relevance and demonstrated commitment of each partner in the proposed project to the implementation and success of the project. Partner commitment should be demonstrated in the form of MOUs, substantive non-form letters of intent, or other documents that show strategic relationships are preferably already in place, that the partners have prior experience collaborating to serve low-income children with disabilities, that each partner understands its roles and responsibilities, and that the leadership of each partner supports the proposed activities; and

(iv) A system for holding partners accountable for performance in accordance with the MOU, letters of intent, or other commitments among the partners.

(3) The capacity of the project to execute necessary data collection protocols and requirements in a high-quality manner, including:

(i) Implementing a process to collect the data needed to track the required outcome measures, project-specific measures, and other necessary information over time and across partner agencies and organizations;

(ii) Adequately documenting project activities, referrals, services, and supports received by each child SSI recipient and his or her family, and any resulting State systems change; and

(iii) Cooperating with the national evaluator on all matters necessary to undertake rigorous evaluation and measurement of the project.

(4) The quality of key personnel, including:

(i) A qualified and sufficient staff to accomplish the goals of the project, including the techniques proposed to ensure that an adequate supply of qualified staff are enlisted in a timely manner;

(ii) The extent to which there is evidence that key project staff, by virtue of their training or professional experience, have the requisite knowledge to design, implement, and manage projects of the size and scope of the proposed project; and

(iii) The extent to which the identified key personnel have the requisite authority to commit their agency and its resources to the implementation of the project.

(d) Significance (20 points).

(1) The extent to which the proposed project will result in systems change and improvement.

(2) The potential contribution of the proposed project to the development and advancement of knowledge and practices in the field.

(3) The extent to which the project is designed to raise the expectations held by, and about, participating child SSI recipients regarding their education and employment outcomes.

(4) The importance or magnitude of the results or outcomes likely to be attained by the proposed project.

(e) Capacity for continuous feedback and improvement (10 points).

(1) The adequacy of plans and procedures for ensuring continuous feedback and improvement in the implementation of the proposed project.

(2) The capacity for incorporating participating child SSI recipient and family feedback, including:

(i) The extent to which the proposed project seeks, encourages, and includes parental involvement and feedback; and

(ii) The extent to which the proposed project seeks, encourages, and includes feedback from participating child SSI recipients and encourages their self-determination.

2. Review and Selection Process: The Department will screen applications submitted in accordance with the requirements in this notice, and will determine which applications have met eligibility requirements and other requirements in this notice. Additional information about the review process will be published on the program's Web site.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Corinne Weidenthal, U.S. Department of Education, 400 Maryland Avenue SW., room 4115, PCP, Washington, DC 20202-2600. Telephone: (202) 245-6529 or by email: corinne.weidenthal@ed.gov.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 16, 2013.
Michael K. Yudin,
Delegated the authority to perform the functions and duties of the Assistant Secretary for Special Education and Rehabilitative Services.

[FR Doc. 2013-12083 Filed 5-20-13; 8:45 am]

BILLING CODE 4000-01-P